DEPARTMENT OF THE INTERIOR

Bureau of Land Management

[UT-020-00-1430-PD]

Fivemile Pass and Knolls Special Recreation Area, et al.; Emergency Closure To Discharge or Use of Firearms or Dangerous Weapons for Purposes of Target Shooting

AGENCY: Bureau of Land Management, Interior.

ACTION: Closure notice and supplemental rule.

SUMMARY: Under the authority of 43 CFR 8364.1(a), notice is hereby given that an emergency closure to the discharge or use of firearms or dangerous weapons for the purposes of target shooting is in effect on public lands administered by the Salt Lake Field Office, Bureau of Land Management, as follows:

Fivemile Pass Special Recreation Management Area (SRMA)

T. 5 S., R. 3 W., SLM, Sections 33, 34;

T. 6.S., R. 3 W., SLM, Sections 3, 4, 7-11, 13-24, 26-30, 33-35;

T. 7 S., R. 3 W., SLM, Sections 1, 3-15, 17, 18, 22-27, 34, 35;

T. 8 S., R. 3 W., SLM, Section 3;

T. 6 S., R. 4 W., SLM, Sections 11-15, 22-26, 35;

T. 7 S., R. 4 W., SLM, Sections 1, 10-15.

Knolls Special Recreation Management Area:

T. 1 S., R. 12 W., SLM, Sections 19-23 south of the railroad grade, 26-31, 33-35;

T. 2 S., R. 12 W., SLM, Sections 3-11, 14, 15, 17, 18;

T. 1 S., R. 13 W., SLM, Sections 19-24 south of railroad grade, 25-31, 33-35;

T. 2 S., R. 13 W., SLM, Sections 1-15, 17, 18.

This order is put into effect to protect persons, property, and resources, located in these areas from person(s) engaged in target shooting with firearms or dangerous weapons. This emergency order does not prohibit the discharge of firearms or dangerous weapons while person(s) are engaged in bonafide hunting activities during established hunting seasons and are properly licensed for these activities.

Under the authority of 43 CFR 8365.1-6, a supplementary rule is established to prohibit the discharge or use of firearms or dangerous weapons for the purposes of target shooting on public lands administered by the Salt Lake Field Office, Bureau of Land Management, as follows:

North Oquirrh Management Area

All Existing and Future Federal Land within the following description:

T. 1 S., R. 3 W., SLM

Section 20, SW¼;

Sections 19, 29, 30, 31, 32;

T. 2 S., R. 3 W., SLM

Sections 5, 6, 7, 8;

Section 16, SW¼SW¼;

Sections 17, 18, 19, 20;

Section 21, W½W½;

Section 28, W½, SE¼;

Sections 29, 30, 31, 32, 33;

Section 34, W½W½;

T. 3 S., R. 3 W., SLM

Section 4, 5, 6;

Section 7, N½, N½S½;

Sections 8, 9;

T. 1 S., R. 4 W., SLM

Section 24, SE¼;

Sections 25, 36;

All lands east of the Union Pacific Railroad within:

T. 2 S., R. 4 W., SLM

Sections 1, 11, 12, 13, 14, 15, 22, 23, 24, 25, 26, 36;

T. 3 S., R. 4 W., SLM

Sections 1, 11;

Section 12, N½.

Simpson Springs Campground

T. 9 S., R. 8 W., SLM

Section 17, W½NW¼, NW¼SW¼;

Section 18, NE¼, E½NW¼, NE¼SW¼, N½SE¼.

DATES: Effective July 5, 2000, this prohibition for Knolls and Fivemile Pass areas will remain in effect until revoked or replaced by supplemental rules pursuant to 43 CFR 8365.1-6.

Effective July 5, 2000, this supplementary rule for North Oquirrh and Simpson Springs Campground areas will remain in effect until revoked.

FOR FURTHER INFORMATION CONTACT: Randy Griffin, BLM Ranger, Salt Lake Field Office, Bureau of Land Management, 2370 South 2300 West, Salt Lake City, Utah, 84119; (801)-977-4300.

SUPPLEMENTARY INFORMATION: This prohibition on the discharge of firearms or dangerous weapons within the Fivemile Pass and Knolls SRMA will serve to protect the safety and health of individuals and groups visiting and utilizing the network of off highway vehicle trails located within the lands described above. In addition, this prohibition will also serve to protect the safety and health of individuals and groups visiting and hiking the network of trails in the North Oquirrh Management Area and individuals and groups camping in the Simpson Springs developed campground.

Violations of this closure are punishable by a fine up to $100,000 and/or imprisonment not to exceed 12 months as provided in 43 CFR part 8360.

Dated: June 23, 2000.
Glenn A. Carpenter,
Field Office Manager.

[FR Doc. 00-16827 Filed 7-3-00; 8:45 am]

BILLING CODE 4310-$$-P